DEPARTMENT OF TRANSPORTATION

Federal Aviation Administration

14 CFR Part 39

[Docket No. FAA-2019-0712; Product Identifier 2019-NM-115-AD; Amendment 39-19849; AD 2020-04-10]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A330-200 Freighter, A330-200, A330-300, A340-200, and A340-300 series airplanes. This AD was prompted by reports that elevator skin panels were found disbonded as a result of water ingress. This AD requires repetitive detailed inspections of skin panels on both elevators, and corrective actions if necessary, as specified in a European Union Aviation Safety Agency (EASA) AD, which is incorporated by reference. The FAA is issuing this AD to address the unsafe condition on these products.

DATES: This AD is effective April 17, 2020.

The Director of the Federal Register approved the incorporation by reference of a certain publication listed in this AD as of April 17, 2020.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0712.

Examining the AD Docket

You may examine the AD docket on the internet at https://www.regulations.gov by searching for and locating Docket No. FAA-2019-0712; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax 206-231-3229; email vladimir.ulyanov@faa.gov.

SUPPLEMENTARY INFORMATION:

Discussion

The EASA, which is the Technical Agent for the Member States of the European Union, has issued EASA AD 2019-0138, dated June 12, 2019 (“EASA AD 2019-0138”) (also referred to as the Mandatory Continuing Airworthiness Information, or “the MCAI”), to correct an unsafe condition for all Airbus SAS Model A330-200 Freighter, A330-200, A330-300, A340-200, and A340-300 series airplanes.

The FAA issued a notice of proposed rulemaking (NPRM) to amend 14 CFR part 39 by adding an AD that would apply to all Airbus SAS Model A330-200 Freighter, A330-200, A330-300, A340-200, and A340-300 series airplanes. The NPRM published in the Federal Register on October 9, 2019 (84 FR 54049). The NPRM was prompted by reports that elevator skin panels were found disbonded as a result of water ingress. The NPRM proposed to require repetitive detailed inspections of skin panels on both elevators, and corrective actions if necessary.

The FAA is issuing this AD to address disbonding of the elevator skin panels. This condition, if not detected and corrected, could affect the structural integrity of the elevators, possibly resulting in reduced control of the airplane. See the MCAI for additional background information.

Comments

The FAA gave the public the opportunity to participate in developing this final rule. The following presents the comments received on the NPRM and the FAA's response to each comment.

Request To Modify the Applicability of the Proposed AD

Delta Air Lines (DAL) requested that paragraph (c) of the proposed AD be modified to refer to Table 1 of EASA AD 2019-0138 for affected parts, or that the proposed AD include a paragraph providing actions for airplanes not equipped with the affected part numbers. DAL asserted that although the NPRM is applicable to all Airbus SAS airplanes, EASA AD 2019-0138 provides additional details, namely the affected elevator part numbers, and those details should be referenced in paragraph (c) of the proposed AD.

The FAA disagrees with the requested modification. EASA AD 2019-0138 is applicable to Airbus SAS Model A330-200 Freighter, A330-200, A330-300, A340-200, and A340-300 series airplanes, all manufacturer serial numbers, the same airplanes to which this AD applies. Further, paragraph (g) of this AD requires the actions specified in EASA AD 2019-0138, which includes the list of affected parts in Table 1 of EASA AD 2019-0138. Therefore, no change to this AD is necessary in this regard.

Request To Add Clarifying Statement to the Proposed AD

DAL also requested clarification of whether the requirements of paragraph (i) of AD 2011-03-10, Amendment 39-16594 (76 FR 6543, February 7, 2011) (“AD 2011-03-10”), are still retained, and that a statement specifying that retention be added to the proposed AD. The commenter observed that paragraph (i) of the proposed AD terminates all requirements of AD 2011-03-10, yet paragraph (i) of AD 2011-03-10 identifies specific part number and serial number combinations as having conditional activities, and identification of those combinations can be verified by records review. DAL further remarked that the proposed AD does not address the actions specified in paragraph (i) of AD 2011-03-10 nor retain the requirement to verify part number and serial number combinations.

The FAA does not agree to add a clarifying statement in this AD. Paragraph (i) of AD 2011-03-10 is the restatement of the requirements of paragraph (g) of AD 2005-20-32, Amendment 39-14329 (70 FR 59263, October 12, 2005), which is superseded by paragraph (k) of AD 2011-03-10. Accomplishment of actions specified in paragraph (k) of AD 2011-03-10 terminates the requirements of paragraph (i) of AD 2011-03-10. Paragraph (k) of AD 2011-03-10 refers to Table 1 of AD 2011-03-10, which defines the affected elevator part numbers.

In addition, FAA AD 2011-03-10 is based on EASA AD 2009-0255, dated December 1, 2009 (“EASA AD 2009-0255”). EASA AD 2019-0138 retains the requirements of EASA AD 2009-0255, which is superseded. Table 1 of EASA AD 2019-0138 contains the affected elevator part numbers, which are the same as those defined in Table 1 of FAA AD 2011-03-10. Compliance with EASA AD 2019-0138 in its entirety constitutes compliance with this AD and thus terminates all actions specified in AD 2011-03-10, as reflected in paragraph (i) of this AD.

The FAA has not changed this AD with regard to this request.

Change Made to This AD

The FAA has revised the formatting of paragraph (h) of this AD. This change does not affect the content or intent of that paragraph.

Conclusion

The FAA reviewed the relevant data, considered the comments received, and determined that air safety and the public interest require adopting this final rule with the change described previously and minor editorial changes. The FAA has determined that these minor changes:

• Are consistent with the intent that was proposed in the NPRM for addressing the unsafe condition; and

• Do not add any additional burden upon the public than was already proposed in the NPRM.

We also determined that these changes will not increase the economic burden on any operator or increase the scope of this final rule.

Related IBR Material Under 1 CFR Part 51

EASA AD 2019-0138 describes procedures for a detailed inspection of the affected parts and corrective actions. This material is reasonably available because the interested parties have access to it through their normal course of business or by the means identified in the ADDRESSES section.

Costs of Compliance

The FAA estimates that this AD affects 103 airplanes of U.S. registry. The FAA estimates the following costs to comply with this AD:

Estimated Costs for Required Actions
Labor cost | Parts cost | Cost per product | Cost on U.S. operators
Up to 14 work-hours × $85 per hour = Up to $1,190 | $0 | Up to $1,190 | Up to $122,570.

The FAA estimates the following costs to do any necessary on-condition actions that would be required based on the results of any required actions. The FAA has no way of determining the number of aircraft that might need these on-condition actions:

Estimated Costs of On-Condition Actions
Labor cost | Parts cost | Cost per product
Up to 24 work-hours × $85 per hour = Up to $2,040 | $0 | Up to $2,040.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-04-10 Airbus SAS: Amendment 39-19849; Docket No. FAA-2019-0712; Product Identifier 2019-NM-115-AD.

(a) Effective Date

This AD is effective April 17, 2020.

(b) Affected ADs

This AD affects AD 2011-03-10, Amendment 39-16594 (76 FR 6543, February 7, 2011) (“AD 2011-03-10”).

(c) Applicability

This AD applies to all Airbus SAS airplanes, certificated in any category, identified in paragraphs (c)(1) through (5) of this AD.

(1) Model A330-223F and -243F airplanes.

(2) Model A330-201, -202, -203, -223, and -243 airplanes.

(3) Model A330-301, -302, -303, -321, -322, -323, -341, -342, and -343 airplanes.

(4) Model A340-211, -212, and -213 airplanes.

(5) Model A340-311, -312, and -313 airplanes.

(d) Subject

Air Transport Association (ATA) of America Code 55, Stabilizers.

(e) Reason

This AD was prompted by reports that elevator skin panels were found disbonded as a result of water ingress. The FAA is issuing this AD to address disbonding of the elevator skin panels. This condition, if not detected and corrected, could affect the structural integrity of the elevators, possibly resulting in reduced control of the airplane.

(f) Compliance

Comply with this AD within the compliance times specified, unless already done.

(g) Requirements

Except as specified in paragraph (h) of this AD: Comply with all required actions and compliance times specified in, and in accordance with, European Union Aviation Safety Agency (EASA) AD 2019-0138, dated June 12, 2019 (“EASA AD 2019-0138”).

(h) Exceptions to EASA AD 2019-0138

(1) Where EASA AD 2019-0138 refers to its effective date, this AD requires using the effective date of this AD.

(2) Where EASA AD 2019-0138 refers to December 15, 2009 (the effective date of EASA AD 2009-0255), this AD requires using March 14, 2011 (the effective date of AD 2011-03-10).

(3) The “Remarks” section of EASA AD 2019-0138 does not apply to this AD.

(i) Terminating Action for AD 2011-03-10

Accomplishing the actions required by this AD terminates all requirements of AD 2011-03-10.

(j) No Reporting Requirement

Although EASA AD 2019-0138 and the service information referenced in it specify to submit certain information to the manufacturer, this AD does not include that requirement.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0138 that contains RC procedures and tests: Except as required by paragraph (k)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

For more information about this AD, contact Vladimir Ulyanov, Aerospace Engineer, International Section, Transport Standards Branch, FAA, 2200 South 216th St., Des Moines, WA 98198; telephone and fax 206-231-3229; email vladimir.ulyanov@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0138, dated June 12, 2019.

(ii) [Reserved]

(3) For information about EASA AD 2019-0138, contact the EASA, Konrad-Adenauer-Ufer 3, 50668 Cologne, Germany; telephone +49 221 89990 6017; email ADs@easa.europa.eu; internet www.easa.europa.eu. You may find this EASA AD on the EASA website at https://ad.easa.europa.eu.

(4) You may view this material at the FAA, Transport Standards Branch, 2200 South 216th St., Des Moines, WA. For information on the availability of this material at the FAA, call 206-231-3195. This material may be found in the AD docket on the internet at https://www.regulations.gov by searching for and locating Docket No. FAA-2019-0712.

(5) You may view this material that is incorporated by reference at the National Archives and Records Administration (NARA). For information on the availability of this material at NARA, email fedreg.legal@nara.gov, or go to: https://www.archives.gov/federal-register/cfr/ibr-locations.html.

Issued on February 19, 2020.
Gaetano A. Sciortino,
Deputy Director for Strategic Initiatives, Compliance & Airworthiness Division, Aircraft Certification Service.

[FR Doc. 2020-05123 Filed 3-12-20; 8:45 am]

BILLING CODE 4910-13-P